DEPARTMENT OF ENERGY

Federal Energy Regulatory Commission

Combined Notice of Filings #1

Take notice that the Commission received the following electric rate filings:

Docket Numbers: ER10-2960-006; ER10-1595-006; ER10-1598-006; ER10-1616-006; ER10-1618-006.

Applicants: Astoria Generating Company, L.P., Crete Energy Venture, LLC, Lincoln Generating Facility, LLC, New Covert Generating Company, LLC, Rolling Hills Generating, L.L.C.

Description: Notice of Non-Material Change in Status of Astoria Generating Company, L.P., et al.

Filed Date: 5/31/16.

Accession Number: 20160531-5671.

Comments Due: 5 p.m. ET 6/21/16.

Docket Numbers: ER16-1822-000.

Applicants: Pacific Gas and Electric Company.

Description: Section 205(d) Rate Filing: May 2016 Western WDT Service Agreement Biannual Filing to be effective 8/1/2016.

Filed Date: 5/31/16.

Accession Number: 20160531-5542.

Comments Due: 5 p.m. ET 6/21/16.

Docket Numbers: ER16-1823-000.

Applicants: Pacific Gas and Electric Company.

Description: Section 205(d) Rate Filing: May 2016 Western Interconnection Agreement Biannual Filing to be effective 8/1/2016.

Filed Date: 5/31/16.

Accession Number: 20160531-5549.

Comments Due: 5 p.m. ET 6/21/16.

Docket Numbers: ER16-1824-000.

Applicants: Golden Spread Electric Cooperative, Inc.

Description: Section 205(d) Rate Filing: WPC 2016 Rider F & G and SSR Amendments to be effective 6/1/2016.

Filed Date: 5/31/16.

Accession Number: 20160531-5559.

Comments Due: 5 p.m. ET 6/21/16.

Docket Numbers: ER16-1825-000.

Applicants: Duke Energy Progress, LLC.

Description: Section 205(d) Rate Filing: NCEMC-PJM Dynamic Transfer Agreement RS No 202 to be effective 6/1/2016.

Filed Date: 5/31/16.

Accession Number: 20160531-5585.

Comments Due: 5 p.m. ET 6/21/16.

Docket Numbers: ER16-1826-000.

Applicants: Southwest Power Pool, Inc.

Description: Section 205(d) Rate Filing: 1067R7 East Texas Electric Cooperative NITSA and NOA to be effective 5/1/2016.

Filed Date: 5/31/16.

Accession Number: 20160531-5590.

Comments Due: 5 p.m. ET 6/21/16.

Docket Numbers: ER16-1827-000.

Applicants: GenOn Energy Management, LLC.

Description: Section 205(d) Rate Filing: Tariff Filing and Request for Waiver to be effective 6/1/2016.

Filed Date: 5/31/16.

Accession Number: 20160531-5605.

Comments Due: 5 p.m. ET 6/21/16.

Docket Numbers: ER16-1828-000.

Applicants: New York State Electric & Gas Corporation.

Description: Section 205(d) Rate Filing: Executed Transmission Facility Interconnection Agreement to be effective 5/27/2016.

Filed Date: 5/26/16.

Accession Number: 20160526-5361.

Comments Due: 5 p.m. ET 6/16/16.

Docket Numbers: ER16-1829-000.

Applicants: Clean Energy Future—Lordstown, LLC.

Description: Request for Limited Waiver of Clean Energy Future ? Lordstown, LLC.

Filed Date: 5/31/16.

Accession Number: 20160531-5640.

Comments Due: 5 p.m. ET 6/21/16.

Docket Numbers: ER16-1830-000.

Applicants: AEP Texas Central Company.

Description: Section 205(d) Rate Filing: TCC-TNC-Rio Grande EC TSA Second Amend & Restated to be effective 5/6/2016.

Filed Date: 6/1/16.

Accession Number: 20160601-5111.

Comments Due: 5 p.m. ET 6/22/16.

Docket Numbers: ER16-1831-000.

Applicants: AEP Texas North Company.

Description: Section 205(d) Rate Filing: TCC-TNC-Rio Grande EC TSA Second Amend & Restated Concurrence to be effective 5/6/2016.

Filed Date: 6/1/16.

Accession Number: 20160601-5112.

Comments Due: 5 p.m. ET 6/22/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 1, 2016.
Nathaniel J. Davis, Sr.,
Deputy Secretary.

[FR Doc. 2016-13445 Filed 6-7-16; 8:45 am]

BILLING CODE 6717-01-P